DEPARTMENT OF AGRICULTURE

Forest Service

Rio Grande National Forest; Colorado; Revision of the Land Management Plan for the Rio Grande National Forest; Correction

AGENCY: Forest Service, USDA.

ACTION: Notice of intent; correction.

SUMMARY: The USDA Forest Service published a notice of intent to prepare an environmental impact statement in the Federal Register of September 12, 2016. The document contains confusing language regarding establishing standing for participation in the agency's admininstrative review process.

FOR FURTHER INFORMATION CONTACT: Erin Minks, Plan Revision Team Leader, eminks@fs.fed.us, 719-852-6215. Information on plan revision is also available at www.fs.usda.gov/riogrande. Individuals who use telecommunication devices for the deaf (TDD) may call the Federal Information Relay Service (FIRS) at 1-800-877-8339 between 8 a.m. and 8 p.m. Eastern Time, Monday through Friday.

Correction

In the Federal Register of September 12, 2016 (81 FR 176), on page 62706, in the third column in the Dates section, correct the section to read:

DATES: Comments concerning the scope of the analysis will be accepted throughout the entire plan revision process. Members of the public who wish to establish standing to participate in the objection process must submit substantive formal comments on the plan revision during one of the opportunities to comment in accordance with 36 CFR 219 subpart B. This scoping period, which ends 45 days from the publication of the Legal Notice in the Valley Courier, is one of the formal periods that can establish standing to object.

Dated: September 13, 2016.
Dan Dallas,
Forest Supervisor, Rio Grande National Forest.

[FR Doc. 2016-22706 Filed 9-20-16; 8:45 am]

BILLING CODE 3411-15-P